FEDERAL MARITIME COMMISSION

Ocean Transportation Intermediary License Applicants

Notice is hereby given that the following applicants have filed with the Federal Maritime Commission an application for license as a Non-Vessel-Operating Common Carrier and Ocean Freight Forwarder-Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel-Operating Common Carrier and Ocean Freight Forwarder-Transportation Intermediary Applicant:

Werner Enterprises, Inc., 14507 Frontier Road, Omaha, NE 68138. Officers: John H. Ohle, Director of Opera., (Qualifying Individual), Greg Werner, President.

Ocean Freight Forwarder-Ocean Transportation Intermediary Applicants:

Elocate Logistic Consultants, Inc., dba LTV Relocation Services, 9262 North West 101 Street, Miami, FL 33178. Officer: Manuel Jesus Rojas, President, (Qualifying Individual).

Scan-Shipping Inc., 20 Pulaski Street, Bayonne, NJ 07002. Officers: Henrik Kjaereng, General Manager, (Qualifying Individual), Steen Dyrholm, Vice President.

Dated: May 12, 2006.
Bryant L. VanBrakle,
Secretary.

[FR Doc. E6-7502 Filed 5-16-06; 8:45 am]

BILLING CODE 6730-01-P